DEPARTMENT OF ENERGY

Federal Energy Regulatory Commission

[EG10-40-000; EG10-41-000; EG10-42-000; EG10-43-000; EG10-44-000; EG10-45-000; EG10-46-000; EG10-47-000; EG10-49-000; EG10-50-000]

Notice of Effectiveness of Exempt Wholesale Generator Status

September 13, 2010.

Taloga Wind, LLC | Docket Nos. EG10-40-000
Stephentown Regulation Services, LLC | EG10-41-000
Longview Power, LLC | EG10-42-000
Alta Wind I, LLC | EG10-43-000
Alta Wind II, LLC | EG10-44-000
Alta Wind III, LLC | EG10-45-000
Alta Wind IV, LLC | EG10-46-000
Alta Wind V, LLC | EG10-47-000
Synergics Roth Rock Wind Energy, LLC | EG10-49-000
Synergics Roth Rock North Wind Energy, LLC | EG10-50-000

Take notice that during the month of August 2010, the status of the above-captioned entities as Exempt Wholesale Generators became effective by operation of the Commission's regulations. 18 CFR 366.7(a).

Kimberly D. Bose,
Secretary.

[FR Doc. 2010-23362 Filed 9-17-10; 8:45 am]

BILLING CODE 6717-01-P